DEPARTMENT OF TRANSPORTATION

Office of the Secretary

Aviation Proceedings, Agreements Filed the Week Ending September 3, 2004

The following Agreements were filed with the Department of Transportation under the provisions of 49 U.S.C. 412 and 414. Answers may be filed within 21 days after the filing of the application.

Docket Number: OST-2004-19025.

Date Filed: August 30, 2004.

Parties: Members of the International Air Transport Association.

Subject:

PTC COMP 1180 dated 31 August 2004.

Mail Vote 406—Resolution 010x.

Special Passenger Amending Resolution.

Intended effective date: 17 September 2004.

Docket Number: OST-2004-19035.

Date Filed: August 31, 2004.

Parties: Members of the International Air Transport Association.

Subject:

PAC/Reso/430 dated 23 July 2004.

Mail Vote Number A 117 Weekly Remittance in Korea r1.

Intended effective date: 1 January 2005.

Docket Number: OST-2004-19036.

Date Filed: August 31, 2004.

Parties: Members of the International Air Transport Association.

Subject:

PAC/Reso/431 dated 23 July 2004.

Mail Vote Number A 118 Implementation of Resolution 814 in Serbia and Montenegro r1.

Intended effective date: 1 January 2005.

Docket Number: OST-2004-19037.

Date Filed: August 31, 2004.

Parties: Members of the International Air Transport Association.

Subject:

PAC/Reso/432 dated 4 August 2004.

Mail Vote Number A 119 Adoption of Local Criteria for Slovenia under Resolution 818 r1.

Intended effective date: 1 January 2005.

Docket Number: OST-2004-19056.

Date Filed: September 2, 2004.

Parties: Members of the International Air Transport Association.

Subject:

32nd IATA CAC held in Singapore on 10 March 2004.

Mail Vote CAC/Mail Vote/002/2004 dated 3 August 2004.

Finally Adopted Resolutions 801r/801re/805zz/851/853.

Intended effective date: 1 November 2004.

Maria Gulczewski,
Supervisory Dockets Officer, Alternate Federal Register Liaison.

[FR Doc. 04-20799 Filed 9-14-04; 8:45 am]

BILLING CODE 4910-62-P 2